ENVIRONMENTAL PROTECTION AGENCY

[EPA-HQ-OW-2002-0059; FRL-10999-01-OMS]

Agency Information Collection Activities; Submission to the Office of Management and Budget for Review and Approval; Comment Request; Clean Water State Revolving Fund and Drinking Water State Revolving Fund Programs (Renewal)

AGENCY: Environmental Protection Agency (EPA).

ACTION: Notice.

SUMMARY: The Environmental Protection Agency (EPA) has submitted an information collection request (ICR), Clean Water State Revolving Fund and Drinking Water State Revolving Fund Programs (EPA ICR Number 1803.09, OMB Control Number 2040-0185) to the Office of Management and Budget (OMB) for review and approval in accordance with the Paperwork Reduction Act. This is a proposed extension of two related ICRs that are being consolidated—the Drinking Water State Revolving Fund ICR, which is currently approved through August 31, 2023, and the Clean Water State Revolving Fund ICR, which is currently approved through May 31, 2024. Public comments were previously requested via the Federal Register on January 19, 2023, during a 60-day comment period. This notice allows for an additional 30 days for public comments.

DATES: Comments may be submitted on or before June 23, 2023.

ADDRESSES: Submit your comments, referencing Docket ID Number—EPA-HQ-OW-2002-0059, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Howard Rubin, Drinking Water Infrastructure Development Division, Office of Ground Water and Drinking Water, 4606M, Environmental Protection Agency, 1200 Pennsylvania Ave. NW, Washington, DC 20460; telephone number: 202-564-2051; email address: Rubin.HowardE@epa.gov. Or Mark Mylin, Water Infrastructure Division, Office of Wastewater Management, 4204M, Environmental Protection Agency, 1200 Pennsylvania Ave. NW, Washington, DC 20460; telephone number: 202-564-0607; email address: Mylin.Mark@epa.gov.

SUPPLEMENTARY INFORMATION: This is a proposed extension of two related ICRs that are being consolidated—the Drinking Water State Revolving Fund ICR, which is currently approved through August 31, 2023, and the Clean Water State Revolving Fund ICR, which is currently approved through May 31, 2024. An agency may not conduct or sponsor and a person is not required to respond to a collection of information unless it displays a currently valid OMB control number.

Public comments were previously requested via the Federal Register on January 19, 2023 during a 60-day comment period (88 FR 3409). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information collection activities will occur primarily at the program-level through the State Capitalization Grant Agreement/Intended Use Plan and Annual Report. The information on the Intended Use Plan (IUP) is needed annually to describe how the State intends to use available State Revolving Fund (SRF) funds for the year to meet the objectives of the Clean Water Act (CWA) or Safe Drinking Water Act (SDWA) and to further the goal of protecting public health. The Annual Report is needed to provide detailed information on how the State has met its goals and objectives of the previous one or two fiscal years as stated in the IUP and grant agreement. The CWA and SDWA require this information to ensure the national accountability, adequate public review and comment, fiscal integrity, and consistent management needed to achieve public health and CWA and SDWA compliance objectives.

Additional information about the CWSRFs and DWSRFs are available at http://www.epa.gov/cwsrf/learn-about-clean-water-state-revolving-fund-cwsrf and https://www.epa.gov/dwsrf/how-drinking-water-state-revolving-fund-works#tab-1, respectively.

This ICR renews the Office of Management and Budget (OMB) Number 2040-0185 DWSRF ICR and provides updated estimates of the reporting burden associated with the information collection activities for both DWSRF ICR and CWSRF ICR.

Form numbers: None.

Respondents/affected entities: Entities affected by this action are states and local governments.

Respondent's obligation to respond: Required to obtain or retain a benefit per the Clean Water Act Title VI and the Safe Drinking Water Act Section 1452.

Estimated number of respondents: 2,836 (total).

Frequency of response: Varies by requirement (i.e., quarterly, semi-annually, annually).

Total estimated burden: 108,519 hours (per year). Burden is defined at 5 CFR 1320.03(b)

Total estimated cost: $12,874,081 (per year), which includes $6,354,600 annualized capital or operation & maintenance costs.

Changes in the estimates: There is a decrease of 37,500 hours in the total estimated respondent burden compared with the two separate ICRs currently approved by OMB. This change in hourly burden is primarily due to a decrease in annual hourly burden in the DWSRF from the elimination of the application review estimates to align with the estimates from CWSRF.

Courtney Kerwin,
Director, Regulatory Support Division.

[FR Doc. 2023-11008 Filed 5-23-23; 8:45 am]

BILLING CODE 6560-50-P